NUCLEAR REGULATORY COMMISSION

[NRC-2012-0232]

Proposed Revision to Probabilistic Risk Assessment and Severe Accident Evaluation for New Reactors

AGENCY: Nuclear Regulatory Commission.

ACTION: Standard review plan-draft section revision; extension of comment period.

SUMMARY: On October 9, 2012 (77 FR 61446), the U.S. Nuclear Regulatory Commission (NRC or the Commission), issued a NUREG-0800, “Standard Review Plan for the Review of Safety Analysis Reports for Nuclear Power Plants: LWR Edition,” on a proposed Revision 3 to its Standard Review Plan (SRP), Section 19.0 “Probabilistic Risk Assessment and Severe Accident Evaluation for New Reactors.” The NRC is extending the public comment period for its SRP, Section 19.0 from November 8, 2012 to December 8, 2012.

ADDRESSES: You may access information and comment submissions related to this document, which the NRC possesses and are publically available, by searching on http://www.regulations.gov under Docket ID NRC-2012-0232. You may submit comments by any of the following methods:

• Federal Rulemaking Web site: Go to http://www.regulations.gov and search for Docket ID NRC-2012-0232. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Ms. Amy E. Cubbage, Office of New Reactors, U.S. Nuclear Regulatory Commission, Washington, DC 20555-0001; telephone at 301-415-2875 or email at Amy.Cubbage@nrc.gov.

SUPPLEMENTARY INFORMATION:

I. Accessing Information and Submitting Comments

A. Accessing Information

Please refer to Docket ID NRC-2012-0232 when contacting the NRC about the availability of information regarding this document. You may access information related to this document by any of the following methods:

• Federal Rulemaking Web site: Go to http://www.regulations.gov and search for Docket ID NRC-2012-0232.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The SRP, Section 19.0, is under ADAMS Accession No. ML12132A481.

• NRC's PDR: You may examine and purchase copies of public documents at the NRC's PDR, Room O1-F21, One White Flint North, 11555 Rockville Pike, Rockville, Maryland 20852.

B. Submitting Comments

Please include Docket ID NRC-2012-0232 in the subject line of your comment submission, in order to ensure that the NRC is able to make your comment submission available to the public in this docket.

The NRC cautions you not to include identifying or contact information that that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Further Information

The Office of New Reactors and the Office of Nuclear Reactor Regulation are revising SRP Section 19.0, which updates Revision 2 (ADAMS Accession No. ML071700652) dated June 2007, to reflect the changes as listed in the description of changes. These changes include (1) incorporation of guidance previously contained in Interim Staff Guidance (ISG), DC/COL-ISG-003 (ADAMS Accession No. ML081430087) concerning the review of probabilistic risk assessment (PRA) information and severe accident assessments for new reactors submitted to support design certification (DC) and combined license (COL) applications, (2) incorporation of guidance previously contained in ISG DC/COL-ISG-020 (ADAMS Accession No. ML100491233) concerning review of information from PRA-based seismic margin analyses submitted in support of DC and COL applications, (3) incorporation of guidance previously contained in ISG DI&C/COL-ISG-003 (ADAMS Accession No. ML080570048) concerning review of digital instrumentation and control system PRAs, including common cause failures in PRAs and uncertainty analysis associated with new reactor digital systems, and (4) incorporation of additional procedures for review of PRA information and severe accident assessments developed during NRC reviews of DC and COL applications completed after ISG DC/COL-ISG-003 was issued. A redline document comparing Revision 2 and the current proposed Revision 3 can be found under ADAMS Accession No. ML12153A008. The NRC staff issues Federal Register notices to facilitate timely implementation of the current staff guidance and to facilitate activities associated with the review of amendment applications. The NRC staff intends to incorporate the final approved guidance into the next revision of NUREG-0800, SRP Section 19.0 Revision 3. Therefore, the comment submittal period is extended from the original date of November 8, 2012 to December 8, 2012.

Dated at Rockville, Maryland, this 25th day of October 2012.
For the Nuclear Regulatory Commission.
Amy E. Cubbage,
Chief, Policy Branch, Division of Advanced Reactors and Rulemaking, Office of New Reactors.

[FR Doc. 2012-27073 Filed 11-5-12; 8:45 am]

BILLING CODE 7590-01-P